DEPARTMENT OF HOMELAND SECURITY

Coast Guard

33 CFR Part 110

[Docket Number USCG-2016-0916]

RIN 1625-AA01

Anchorages; Captain of the Port Puget Sound Zone, WA

AGENCY: Coast Guard, DHS.

ACTION: Change in comment period on notice of proposed rulemaking.

SUMMARY: The Coast Guard is adding an additional 90 days to the comment period on the notice of proposed rulemaking for “Anchorages; Captain of the Port Puget Sound Zone, WA” published in the Federal Register on February 10, 2017. We are changing the comment period to allow the public more time to comment on this proposed rule published in February. You now have through August 9, 2017, to submit comments.

DATES: The comment period for the proposed rule published February 10, 2017 (82 FR 10313) has been changed. Comments and related material must be received by the Coast Guard on or before August 9, 2017.

ADDRESSES: You may submit comments identified by docket number USCG-2016-0916 using the Federal eRulemaking Portal at http://www.regulations.gov. See the “Public Participation and Request for Comments” portion of the SUPPLEMENTARY INFORMATION section for further instructions on submitting comments.

FOR FURTHER INFORMATION CONTACT: If you have questions about this proposed rulemaking, call or email Mr. Laird Hail, U.S. Coast Guard Sector Puget Sound; telephone 206-217-6051, email SectorPugetSoundWWM@uscg.mil.

SUPPLEMENTARY INFORMATION: The Coast Guard is adding an additional 90 days to the comment period on the notice of proposed rulemaking for “Anchorages; Captain of the Port Puget Sound Zone, WA” that we published in the Federal Register on February 10, 2017 (82 FR 10313). We are changing the comment period to allow the public more time to comment on this subject. The comment period is now open through August 9, 2017. If you submit comments after the initial deadline of May 11, 2017, they will be accepted and considered so long as they are submitted on or before August 9, 2017.

In the notice of proposed rulemaking, the Coast Guard proposes the creation of several new anchorages and holding areas as well as a non-anchorage area, the expansion of one existing general anchorage, and the establishment of new and clarification of existing regulations governing such anchorages and areas in the Puget Sound area. This action is necessary to provide enhanced safety for maritime traffic in the Puget Sound area.

Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

The NPRM we are seeking comments on, and documents mentioned in the NPRM as being available in the docket—including all public comments, will be in our online docket at http://www.regulations.gov and can be viewed by following that Web site's instructions. Additionally, if you go to the online docket and sign up for email alerts, you will be notified when comments are posted or a final rule is published.

This document is issued under authority of 5 U.S.C. 552(a) and 553.

Dated: May 8, 2017.
B.C. McPherson,
Captain, U.S. Coast Guard, Acting Commander, Thirteenth Coast Guard District.

[FR Doc. 2017-09884 Filed 5-15-17; 8:45 am]

BILLING CODE 9110-04-P